DEPARTMENT OF AGRICULTURE

Natural Resources Conservation Service

Notice of Availability of finding of no significant impact and Supplement to the environmental assessment for the Environmental Quality Incentives Program

AGENCY: Natural Resources Conservation Service, USDA.

ACTION: Notice of availability of finding of no significant impact and Supplement to the environmental assessment for the Environmental Quality Incentives Program.

SUMMARY: The Natural Resources Conservation Service (NRCS), has prepared a Supplement to the Environmental Quality Incentives Program (EQIP) Environmental Assessment (EA) consistent with the National Environmental Policy Act of 1969, as amended. The Supplement was prepared as a means of amending the Final EQIP EA to correct the record and address comments received on the draft EQIP EA but not acknowledged in the final EQIP EA. Upon review of the information in the Supplement to the EQIP EA, the Chief of NRCS made a Finding of No Significant Impact (FONSI) and the determination was made that no environmental impact statement is required to support National implementation of EQIP.

FOR FURTHER INFORMATION: Copies of the Supplement to the EQIP EA and the FONSI, or additional information on matters related to this Federal Register Notice can be obtained by contacting one of the following individuals at the addresses and telephone numbers shown below:

Mr. Melvin Womack, Conservation Incentives Team Leader, Conservation Operations Division, NRCS, U.S. Department of Agriculture, PO Box 2890, Room 5239-S, Washington, DC 20013-2890. Telephone: (202) 720-0907.

Ms. André DuVarney, National Environmental Coordinator, Ecological Sciences Division, NRCS, U.S. Department of Agriculture, PO Box 2890, Room 6158-S, Washington, DC 20013-2890. Telephone: (202) 720-4925.

SUPPLEMENTARY INFORMATION: To implement EQIP, as amended by the Farm Security and Rural Investment Act of 2002, Pub. L. 107-71 (May 13, 2002) (“the 2002 Act”), the NRCS published in the Federal Register a proposed rule with requests for comments (68 FR 6655 (February 10, 2003). At the same time, NRCS made available to the public a Draft Environmental Assessment (EA) that analyzed the impacts of the proposed rule on the quality of the human environment. The Draft EA was prepared on a National Programmatic basis. NRCS was of the preliminary opinion, based on the results of the Draft EA, that implementation of EQIP would have no significant impact on the quality of the human environment, particularly when focusing on the significant adverse impacts which NEPA is intended to help decision makers avoid and mitigate; therefore, NRCS also made a Draft FONSI available to the public at that time. NRCS indicated that it would accept comments on the Draft EA and Draft FONSI through the mail or via the internet until March 12, 2003.

On May 30, 2003, NRCS published in the Federal Register the final rule implementing EQIP, as amended (68 FR 32337 (May 30, 2003)), and at that time provided the public with notice of the availability of the Final EA and FONSI.

In the Final EA, NRCS stated that it “received no comments on the draft EA or draft FONSI.” In fact, however, NRCS had received a comment letter on the Draft EA. NRCS misplaced these comments and they were not considered during formulation of the final EA that was prepared to comply with the National Environmental Policy Act of 1969, as amended (NEPA). The error was discovered after the EA and FONSI were made available to the public. To ensure the comments received appropriate consideration as part of the NEPA process, NRCS made a determination to correct the record and address the comments by issuing a supplement to the Final EQIP EA.

NEPA requires that Federal agencies prepare Environmental Impact Statements (EISs) for major Federal actions significantly affecting the quality of the human environment. In addition, the Council on Environmental Quality (CEQ) regulations implementing NEPA (40 CFR parts 1500-1508) require Federal agencies to prepare EAs to assist in determining whether there is a need to prepare an EIS for actions that have not been categorically excluded from NEPA. NRCS has reviewed the comments on the Draft EQIP EA to determine whether the comments provide new information that would lead NRCS to find that publication of the final rule to implement EQIP on a National basis may result in the significant adverse impacts that NEPA is intended to help decision makers avoid and mitigate; and thus, whether an EIS should be prepared.

Upon review of the information in the Supplement to the EQIP EA, the Chief found that no new information was provided in the comments to indicate NRCS should address additional issues or alternatives in the EA or that alters discussions in the Final EA of the potential effects of the program from a National perspective. The Chief of NRCS further found, after considering the information in the comments and the Supplement, the program will not result in a significant impact on the quality of the human environment, particularly when focusing on the significant adverse impacts which NEPA is intended to help decisionmakers avoid and mitigate. Therefore, a FONSI was issued and the determination was made that no EIS is required to support National implementation of EQIP.

Copies of the Supplement to the EA and FONSI may be reviewed at the following location: Conservation Operations Division, NRCS, U.S. Department of Agriculture, Room 5239-S, Washington, DC 20013-2890. The documents may also be accessed on the Internet at http://www.nrcs.usda.gov/programs/Env_Assess/EQIP/EQIP.html

Signed in Washington, DC on February 9, 2004.
Bruce I. Knight,
Chief, Natural Resources Conservation Service.

[FR Doc. 04-4459 Filed 2-27-04; 8:45 am]

BILLING CODE 3410-16-P